DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2013, there was one application approved. This notice also includes information on four applications, approved in July 2013, inadvertently left off the July 2013 notice. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Port Authority of New York and New Jersey, New York, New York.

Application Number: 12-09-C-00-EWR.

Application Type: Impose and use a PFC.

PFC Level: $4.50.

Total PFC Revenue Approved in this Decision: $45,666,000.

Earliest Charge Effective Date: October 1, 2017.

Estimated Charge Expiration Date: July 1, 2018.

Class of Air Carriers not Required to Collect PFC's: Non-scheduled/on-demand air carriers operating at Newark Liberty International Airport (EWR).

Determination: Approved. Based on information contained in the public agency's application, the FAA has determined that the proposed class accounts for less than 1 percent of the total annual enplanements at EWR.

Brief Description of Project Approved for Collection at EWR and Use at John F. Kennedy International Airport (JFK) at a $4.50 PFC Level: JFK Terminal 3 site redevelopment and capacity improvements.

Decision Date: July 5, 2013.

FOR FURTHER INFORMATION CONTACT: Patricia Henn, Eastern Region Airports Division, (718) 553-3357.

Public Agency: Port Authority of New York and New Jersey, New York, New York.

Application Number: 12-09-C-00-JFK.

Application Type: Impose and use a PFC.

PFC Level: $4.50.

Total PFC Revenue Approved in this Decision: $111,391,500.

Earliest Charge Effective Date: September 1, 2017.

Estimated Charge Expiration Date: November 1, 2018.

Class of Air Carriers not Required to Collect PFC's: Non-scheduled/on-demand air carriers operating at JFK.

Determination: Approved. Based on information contained in the public agency's application, the FAA has determined that the proposed class accounts for less than 1 percent of the total annual enplanements at JFK.

Brief Description of Project Approved for Collection at JFK and Use at JFK at a $4.50 PFC Level: JFK Terminal 3 site redevelopment and capacity improvements.

Decision Date: July 5, 2013.

FOR FURTHER INFORMATION CONTACT: Patricia Henn, Eastern Region Airports Division, (718) 553-3357.

Public Agency: Port Authority of New York and New Jersey, New York, New York.

Application Number: 12-09-C-00-LGA.

Application Type: Impose and use a PFC.

PFC Level: $4.50.

Total PFC Revenue Approved in this Decision: $56,674,000.

Earliest Charge Effective Date: September 1, 2017.

Estimated Charge Expiration Date: November 1, 2018.

Class of Air Carriers not Required to Collect PFC's: Non-scheduled/on-demand air carriers operating at LaGuardia Airport (LGA).

Determination: Approved. Based on information contained in the public agency's application, the FAA has determined that the proposed class accounts for less than 1 percent of the total annual enplanements at LGA.

Brief Description of Project Approved for Collection at LGA and Use at JFK at a $4.50 PFC Level: JFK Terminal 3 site redevelopment and capacity improvements.

Decision Date: July 5, 2013.

FOR FURTHER INFORMATION CONTACT: Patricia Henn, Eastern Region Airports Division, (718) 553-3357.

Public Agency: Port Authority of New York and New Jersey, New York, New York.

Application Number: 12-06-C-00-SWF.

Application Type: Impose and use a PFC.

PFC Level: $4.50.

Total PFC Revenue Approved in this Decision: $1,268,500.

Earliest Charge Effective Date: February 1, 2018.

Estimated Charge Expiration Date: October 1, 2019.

Class of Air Carriers Not Required to Collect PFC's: Non-scheduled/on-demand air carriers operating at Stewart International Airport (SWF).

Determination: Approved. Based on information contained in the public agency's application, the FAA has determined that the proposed class accounts for less than 1 percent of the total annual enplanements at SWF.

Brief Description of Project Approved for Collection at SWF and use at JFK at a $4.50 PFC Level: JFK Terminal 3 site redevelopment and capacity improvements.

Decision Date: July 5, 2013.

FOR FURTHER INFORMATION CONTACT: Patricia Henn, Eastern Region Airports Division, (718) 553-3357.

Public Agency: Asheville Regional Airports Authority, Fletcher, North Carolina.

Application Number: 13-06-U-00-AVL.

Application Type: Use PFC Revenue.

Total PFC Revenue Approved for use in this Decision: $11,683,636.

PFC Level: $4.50.

Charge Effective Date: August 1, 2011.

Estimated Charge Expiration Date: April 1, 2024.

Class of Air Carriers Not Required to Collect PFC's: No change from previous decision.

Brief Description of Project Approved for Use: Runway 16/34 improvement program.

Decision Date: August 7, 2013.

FOR FURTHER INFORMATION CONTACT: Troy Butler, Southern Region Airports Division, (404) 305-6727.

Amendments to PFC Approvals
Amendment No. city, state | Amendment approved date | Original approved net PFC revenue | Amended approved net PFC revenue | Original estimated charge exp. date | Amended estimated charge exp. date
06-05-C-01-COD, Cody, WY | 07/30/13 | $534,096 | $411,718 | 02/01/11 | 05/01/09
05-08-C-01-MSP, Minneapolis, MN | 08/01/13 | 191,380,173 | 147,985,611 | 03/01/16 | 07/01/16
11-05-C-01-AVL, Fletcher, NC | 08/07/13 | 8,233,516 | 15,013,464 | 02/01/18 | 04/01/24
06-03-C-02-OAJ, Richlands, NC | 08/07/13 | 348,456 | 340,492 | 01/01/09 | 01/01/09
08-06-C-01-COD, Cody, WY | 08/12/13 | 79,500 | 78,476 | 05/01/11 | 05/01/11
07-05-C-02-MAF, Midland, TX | 08/19/13 | 1,544,032 | 932,194 | 08/01/15 | 02/01/15
12-06-C-01-MAF, Midland, TX | 08/19/13 | 1,319,287 | 967,278 | 11/01/15 | 07/01/15
05-06-C-01-EUG, Eugene, OR | 08/27/13 | 2,400,000 | 2,324,262 | 09/01/09 | 09/01/09
12-12-C-01-PLN, Petoskey, MI | 08/28/13 | 481,281 | 481,281 | 05/01/18 | 05/01/18
11-07-C-02-PUW, Pullman, WA | 08/28/13 | 210,700 | 214,775 | 11/01/12 | 06/01/12
12-08-C-01-PUW, Pullman, WA | 08/28/13 | 170,350 | 568,149 | 09/01/13 | 09/01/13

Issued in Washington, DC, on December 30, 2013.
Joe Hebert,
Manager, Financial Analysis and Passenger Facility Charge Branch.

[FR Doc. 2013-31551 Filed 1-3-14; 8:45 am]

BILLING CODE 4910-13-P